DEPARTMENT OF DEFENSE

Department of the Army, Corps of Engineers

Intent To Prepare an Environmental Impact Statement for the San Diego County Shoreline Feasibility Study, Oceanside, San Diego County, CA

AGENCY: Department of the Army, U.S. Army Corps of Engineers, DOD.

ACTION: Notice of Intent.

SUMMARY: The Los Angeles District of the U.S. Army Corps of Engineers (USACE) will prepare a Draft Environmental Impact Statement (DEIS) to support the San Diego County Shoreline Feasibility Study, Oceanside, San Diego County California. The Study Area extends approximately 15 miles along the coast, from about 9 miles north of the Oceanside Harbor north breakwater to the Agua Hedionda Lagoon north jetty, within the cities of Oceanside and Carlsbad in northwest San Diego County. The project environment includes predominantly beach, coastal strand, and/or marine inter-tidal/littoral/pelagic zones.

The predominant problem that threatens the shoreline is continual beach erosion averaging over 6 feet per year in some areas, despite the considerable amount of beach fill deposited on an annual basis. Causes for this erosion has been attributed to sediment impoundment due to harbor construction, dam construction, storm damage, and river sand mining.

The loss of beach width and increased exposure of property has resulted in increased coastal damage, safety issues, and loss of recreation opportunities. This feasibility study will focus on addressing the problems and needs caused by beach erosion. The DEIS will analyze the potential impacts (beneficial and adverse) on the environment for the range of alternatives, including the recommended plan.

The Los Angeles District and the City of Oceanside will cooperate in conducting this Feasibility Study.

The Los Angeles District intends to prepare an Environmental Impact Statement (EIS) to support a feasibility study with the city of Oceanside, California, for shoreline protection. The purpose of the feasibility study is to mitigate for impacts from construction of the Camp Pendleton Harbor and reduce coastal storm damages in the city of Oceanside. The EIS will analyze potential impacts of the recommended plan and a range of alternatives. Alternatives will include both structural and non-structural measures.

ADDRESSES: You may submit your concerns in writing to the Los Angeles District at the address below. Comments, suggestions, and requests to be placed on the mailing list for announcements should be sent to Lawrence Smith, U.S. Army Corps of Engineers, Los Angeles District, 915 Wilshire Boulevard, Suite 930, Los Angeles, CA 90017-3401, or email to lawrence.j.smith@usace.army.mil.

FOR FURTHER INFORMATION CONTACT: For further information contact Mr. Larry Smith, Project Environmental Coordinator, (213) 452-3846.

SUPPLEMENTARY INFORMATION: Authorization: This Feasibility Study was authorized by the House Public Works and Transportation Committee Resolution adopted April 30,1992 which states: “Resolved by the Committee on Public Works and Transportation of the United States House of Representatives, that in accordance with Section 110 of the River and Harbor Act of 1962, the Secretary of the Army, acting through the Chief of Engineers, is requested to investigate the feasibility of providing shore protection improvements along the shores of the City of Oceanside, San Diego County, California, in the interest of shoreline protection and storm damage reduction and other related purposes.”

Specific language was included in the Water Resources Development Act of 2000 (WRDA 2000) directing the Corps of Engineers to undertake a study of how to mitigate erosion and other impacts caused by the construction of Camp Pendleton Harbor, and restore beaches to pre-construction conditions at full Federal expense. The authority states, “Not later than 32 months after the date of enactment of this Act, the Secretary shall conduct a study, at Federal expense, of plans (1) to mitigate for the erosion and other impacts resulting from the construction of Camp Pendleton Harbor, Oceanside, California, as a wartime measure; and (2) to restore beach conditions along the affected public and private shores to the conditions that existed before the construction of Camp Pendleton Harbor.” This authority was amended in WRDA 2007 to extend the study to 44 months.

Study Area: The study area extends approximately 15 miles along the coast, from about 9 miles north of the Oceanside Harbor North Breakwater to the Agua Hedionda Lagoon North Jetty, within the cities of Oceanside and Carlsbad in northwest San Diego County.

Problems and Needs: During the 1880's Oceanside Beach was approximately 90 meters wide. This shoreline width was further advanced in the floods of 1889, 1891, and 1916 bringing large volumes of sediment from the San Luis Rey and Santa Margarita Rivers. The City used the widened beach as a resource, and in 1927 a recreational pier, beachfront, strand, parking lots and houses were constructed in front of the seacliff. During this period a dam was also constructed on the San Luis Rey River to control flooding. At the start of the U.S. involvement in World War II, the U.S. Marine Corps designed and contracted construction of a small boat basin in a narrow lagoon between the Santa Margarita and San Luis Rey Rivers to support an amphibious training base. This included four jetties, which were later extended. Another dam was constructed on the Santa Margarita River to control flooding in 1949.

The presence of the coastal structures, such as jetties and breakwaters, has resulted in the disruption of sediment transport, creating a variety of localized shoreline effects. Sediment tends to accumulate at the beach north of the harbor, within the harbor entrance, and south of the harbor south jetty. However, erosion tends to occur south of the harbor. Damages reported by residents consist mainly of inundation damages and damages to revetment. These damages occur when storm wave conditions coincide with high tidal elevations, storm surges, or increased ENSO (El Niño Southern Oscillation) water levels which cause elevated sea surfaces and higher wave run-up elevations. The majority of damages in Oceanside occurred during storms in 1977-1978, 1982-83, 1988, 1993-1994, and 1997-1998. In addition to high waves and water surface elevations, damage is enabled by shoreline erosion and beach retreat exposing structures to wave attack. Oceanside has historically experienced a narrow beach, but has recently undergone accelerated erosion. A large volume of material has been placed back on the beach during construction and maintenance dredging, but a deficit in sand for the beach still exists. The average rate of recession near Oceanside Beach from 1940-1999 is approximately 3.5 ft./yr. Studies have shown that problems are caused by a combination of measures in the nearby rivers (including flood control measures and sand mining), which reduces sediment nourishment, along with the construction of the harbor, which limits longshore sediment transport. In 1974, the USACE issued a position paper on beach erosion that tentatively indicated that the harbor was the primary cause of erosion. A Notice of Intent to prepare an EIS was originally published in the Federal Register on May 31, 2002. The Los Angeles District has elected to republish and to hold a new public Scoping Meeting to allow members of the public to provide input into the scoping of the proposed EIS and the alternatives formulation process.

Proposed Action and Alternatives: The Feasibility Study will focus on the problems and needs caused by beach erosion. In general, alternative plans will focus on reducing the beach erosion and improving sand accumulation through either construction or management project features such as groins, reefs, and/or beach nourishment.

The primary undesirable impacts of concern from any of the alternatives will likely be related to temporary turbidity and displacement of sand dwelling organisms and their predators. These will be addressed in the study as part of the plan formulation of the Feasibility Study, and potential impacts will be analyzed in the DEIS.

Previous Actions: Annual maintenance dredging of the entrance into Oceanside Harbor with placement on area beaches south of the San Luis Rey River.

Scoping: Participation of all interested Federal, State, and County agencies; groups with environmental interests; and any interested individuals is encouraged. Public involvement will be most beneficial and worthwhile in identifying the scope of pertinent, significant environmental issues to be addressed; identifying and eliminating from detailed study issues that are not significant; offering useful information such as published or unpublished data; providing direct personal experience or knowledge which informs decision making; and recommending suitable mitigation measures to offset potential impacts from the proposed action or alternatives.

Two public scoping meetings will be held in the City of Oceanside on March 17, 2016 at 3:00 and 5:30 p.m. The public scoping meeting will be held at Council Chambers at City Hall; 300 North Coast Highway; Oceanside, CA 92054. The purpose of the scoping meeting will be to gather information from the general public or interested organizations about issues and concerns that they would like to see addressed in the DEIS. Comments may be delivered in writing or verbally at the meeting or sent in writing to the Los Angeles District at the address given above. All comments enter into the public record. Comments should be submitted no later than May 1, 2016.

Availability of the Draft EIS: The Draft EIS is scheduled to be published and circulated in late 2016, and a public hearing to receive comments on the Draft EIS will be held after it is published.

Dated: February 24, 2016.
Kirk E. Gibbs,
Colonel, U.S. Army, Commander and District Engineer.

[FR Doc. 2016-05171 Filed 3-8-16; 8:45 am]

BILLING CODE 3720-58-P